DEPARTMENT OF THE INTERIOR

36 CFR Chapter I

Public Meeting Dates of the Negotiated Rulemaking Advisory Committee for Off-Road Driving Regulations at Fire Island National Seashore

AGENCY: National Park Service, Interior.

ACTION: Notice of meeting dates.

SUMMARY: Notice is hereby given in accordance with the Federal Advisory Committee Act (Pub. L. 92-463, 86 Stat. 770, 5 U.S.C. App 1, section 10), of a meeting of the Negotiated Ruelmaking Advisory Committee for Off-Road Driving Regulations at Fire Island National Seashore (36 CFR 7.20).

DATES: The Committee meeting scheduled for September 13-14, 2002 has been rescheduled for November 8-9, 2002.

ADDRESSES: The meeting will begin at 9 a.m. and will be held at Dowling College, New York.

FOR FURTHER INFORMATION CONTACT: Barry Sullivan, Acting Superintendent, Fire Island National Seashore, 120 Laurel Street, Patchogue, NY 11772, 631-289-4810 (Ext. 221).

SUPPLEMENTARY INFORMATION: The Committee was established pursuant to the Negotiated Rulemaking Act of 1990 (5 U.S.C. 561-570). The purpose of the Committee is to advise the National Park Service with regard to proposed rulemaking governing off-road vehicle use at Fire Island National Seashore. Notice of intent to establish this committee was published in 65 FR 70674-70675, November 27, 2000.

Dated: September 6, 2002.
Barry T. Sullivan,
Acting Superintendent, Fire Island National Seashore.

[FR Doc. 02-24046 Filed 9-20-02; 8:45 am]

BILLING CODE 4310-70-M